DEPARTMENT OF COMMERCE

National Oceanic and Atmospheric Administration

[I.D. 102805A]

Endangered Species; File No. 1553 and File No. 1555

AGENCY: National Marine Fisheries Service (NMFS), National Oceanic and Atmospheric Administration (NOAA), Commerce.

ACTION: Notice; receipt of applications and modification request

SUMMARY: NMFS has received applications from the following entities for permits for scientific research on shortnose sturgeon (Acipenser brevirostrum):

Michael Mangold, U.S. Fish and Wildlife Service, Maryland Fishery Resources Office, 177 Admiral Cochrane Drive, Annapolis, MD 21401 (File No. 1553); and

David J. Stier, Springfield Science Museum, 220 State Street, Springfield, MA 01103 (File No. 1555).

DATES: Written, telefaxed, or e-mail comments must be received on or before December 5, 2005.

ADDRESSES: The applications and related documents are available for review upon written request or by appointment in the following offices:

Permits, Conservation and Education Division, Office of Protected Resources, NMFS, 1315 East-West Highway, Room 13705, Silver Spring, MD 20910; phone (301)713-2289; fax (301)427-2521; or

Northeast Region, NMFS, One Blackburn Drive, Gloucester, MA 01930-2298; phone (978)281-9328; fax (978)281-9394.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: either File No. 1553, or File No. 1555.

FOR FURTHER INFORMATION CONTACT: For File No. 1555: Shane Guan or Kelsey Abbott, (301)713-2289.

For File No. 1553: Shane Guan or Layne Bolen, (301)713-2289;

SUPPLEMENTARY INFORMATION: The subject permits are requested under the authority of the Endangered Species Act of 1973, as amended (ESA; 16 U.S.C. 1531 et seq.) and the regulations governing the taking, importing, and exporting of endangered and threatened species (50 CFR 222-226).

File No. 1553: Mr. Michael Mangold of the U.S. Fish and Wildlife Service's (FWS's) Maryland Fishery Resources Office proposes to release up to 12 sterile shortnose sturgeon into the Potomac River in hopes that these fish would lead the researchers to location(s) where possible remnant wild fish aggregate. These fish would carry internal CART tags for tracking and would be released on May 1, 2006. The researchers plan to recapture the sterile fish on or around November 1, 2006. Sterile fish would be provided by FWS's Warm Springs Regional Fisheries Center in Georgia.

File No. 1555: Mr. David J. Stier, Director of Springfield Science Museum, proposes to obtain and use five captive-bred, non-releaseable juvenile shortnose sturgeon from the Silvio O. Conte Anadramous Fish Research Center in Turners Falls, MA. The proposed project to display endangered cultured shortnose sturgeon responds directly to a recommendation from the NMFS recovery plan outline for this species. This sturgeon display would be used to increase public awareness of the shortnose sturgeon and its status. The proposed project would educate the public on shortnose sturgeon life history and the reasons for the species decline. The permit is requested for a duration of 5 years.

Dated: October 28, 2005.
Stephen L. Leathery,
Chief, Permits, Conservation and Education Division, Office of Protected Resources, National Marine Fisheries Service.

[FR Doc. 05-22042 Filed 11-3-05; 8:45 am]

BILLING CODE 3510-22-S